DEPARTMENT OF ENERGY

Federal Energy Regulatory Commission

[Docket No. CP05-395-000]

Dominion Cove Point LNG, LP; Notice of Application

August 3, 2005.

Take notice that on July 26, 2005, Dominion Cove Point LNG, LP (Cove Point LNG) filed an application in Docket No. CP05-395-000, pursuant to section 3 of the Natural Gas Act (NGA), for authority to construct, install, own, operate and maintain certain facilities at the Cove Point LNG import terminal at Cove Point, Maryland (Vaporizer Reactivation Project). The details of this proposal are more fully set forth in the application that is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY(202) 502-8659.

Any questions regarding this application should be directed to Anne E. Bomar, Managing Director, Transmission, Rates and Regulation, Dominion Resources, Inc., 120 Tredegar Street, Richmond, Virginia 23219, or by phone at (804) 819-2134.

The Vaporizer Reactivation Project is designed to refurbish and reactivate two unused waste heat vaporizers that were originally installed at the Cove Point LNG Terminal in the 1970s. These vaporizers will use combustion exhaust heat from the gas turbine generators to indirectly vaporize LNG. The proposed project will provide spare vaporization capability that will create an opportunity to firm up sendout from the facility, during times when the vaporization facilities would otherwise be limited by normal maintenance requirements. Cove Point LNG says that reactivating these waste heat vaporizers will enable Cove Point LNG to provide up to its current peak-day capability of 1.0 MMDth/day of sendout for which it is currently authorized on a year-round basis, subject only to certain excused interruptions. Cove Point LNG says that the Vaporizer Reactivation Project will not impair the ability of Cove Point LNG to render service at reasonable rates to its existing customers.

Cove Point LNG requests that the Commission approve the use of the facilities associated with the Vapor Reactivation Project to support an incremental send-out service (ISQ) for LTD-1 customers under Section 4 of the NGA. The terms and conditions of the proposed ISQ service are set forth in pro forma tariff sheets modifying Rate Schedule LTD-1 in Exhibit P to the application. Cove Point LNG is also proposing that an off-peak firm transportation service (OTS) on the Cove Point LNG natural gas pipeline be approved by the Commission under Section 4 of the NGA. The terms and conditions of the proposed OTS service are also set forth in pro forma tariff sheets in Exhibit P to the application.

Cove Point LNG requests that the Commission grant the requested authorization at the earliest practicable date, in order to ensure an in-service date on the earlier of: (i) The earliest practicable date, or (ii) the later of (a) May 24, 2006, or (b) six months following issuance of the requested authorizations.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA(18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commentors will be placed on the Commission's environmental mailing list, will receive copies of the environmental documents, and will be notified of meetings associated with the Commission's environmental review process. Environmental commentors will not be required to serve copies of filed documents on all other parties. The Commission's rules require that persons filing comments in opposition to the project provide copies of their protests only to the applicant. However, the non-party commentors will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Comment Date: 5 p.m. Eastern Time on August 26, 2005.

Linda Mitry,
Deputy Secretary.

[FR Doc. E5-4283 Filed 8-8-05; 8:45 am]

BILLING CODE 6717-01-P